DEPARTMENT OF THE INTERIOR

Bureau of Land Management

[ID 111 1610 DQ 049D DBG071006]

Notice of Correction to Notice of Availability of Snake River Birds of Prey National Conservation Area Proposed Resource Management Plan and Final Environmental Impact Statement, Idaho

AGENCY: Bureau of Land Management, Interior.

ACTION: Notice of Correction.

SUMMARY: On February 29, 2008, the Bureau of Land Management (BLM) published in the Federal Register [73 FR 11139] the Notice of Availability (NOA) of Snake River Birds of Prey National Conservation Area (NCA) Proposed Resource Management Plan (RMP) and Final Environmental Impact Statement (FEIS), Idaho. This notice inadvertently gave the incorrect Internet address for viewing the Proposed RMP/FEIS on the Internet. The correct Internet address is: http://www.blm.gov/id/st/en/fo/four_rivers/Planning/snake_river_birds.html.

FOR FURTHER INFORMATION CONTACT: John Sullivan, NCA Manager, BLM Four Rivers Field Office, 3948 Development Ave., Boise, Idaho 83705, phone 208-384-3300, e-mail address: John_Sullivan@blm.gov.

Thomas H. Dyer,
Bureau of Land Management, Idaho State Director.

[FR Doc. E8-5296 Filed 3-14-08; 8:45 am]

BILLING CODE 4310-GG-P